DEPARTMENT OF AGRICULTURE

Agricultural Marketing Service

[No. FV-05-329]

United States Standards for Grades of Canned Sweetpotatoes

AGENCY: Agricultural Marketing Service, USDA.

ACTION: Notice.

SUMMARY: The Agricultural Marketing Service (AMS) of the Department of Agriculture (USDA) is soliciting comments on the proposed revision to the United States Standards for Grades of Canned Sweetpotatoes. AMS received two petitions from food processors asking USDA to consider revising the current definition for the style of “Whole” in the United States Standards for Grades of Canned Sweetpotatoes. The change was requested to reflect newer varieties, new sorting techniques, and canning processes.

DATES: Comments must be submitted on or before July 15, 2005.

ADDRESSES: Interested persons are invited to submit written comments concerning this notice. Comments must be sent to Chere L. Shorter, Standardization Section, Processed Products Branch, Fruit and Vegetable Programs, Agricultural Marketing Service, U.S. Department of Agriculture, 1400 Independence Avenue SW., Room 0709, South Building; STOP 0247, Washington, DC 20250; fax (202) 690-1527, e-mail Chere.Shorter@usda.gov. The United States Standards for Grades of Canned Sweetpotatoes is available either through the address cited above or by accessing the AMS Web site on the Internet at http://www.ams.usda.gov/fv/ppb.html.

SUPPLEMENTARY INFORMATION: Section 203(c) of the Agricultural Marketing Act of 1946, as amended, directs and authorizes the Secretary of Agriculture “to develop and improve standards of quality, condition, quantity, grade, and packaging, and recommend and demonstrate such standards in order to encourage uniformity and consistency in commercial practices.” AMS is committed to carrying out this authority in a manner that facilitates the marketing of agricultural commodities and makes copies of official standards available upon request. Those United States Standards for Grades of Fruits and Vegetables no longer appear in the Code of Federal Regulations but are maintained by USDA/AMS/Fruit and Vegetable Programs.

AMS is proposing to revise the U.S. Standards for Grades of Canned Sweetpotatoes using the procedures that appear in part 36 of title 7 of the Code of Federal Regulations (7 CFR part 36).

Background

AMS received two petitions from food processors through the Food Products Association (FPA), formerly the National Food Processors Association, requesting revision of the United States Standards for Grades of Canned Sweetpotatoes. The petitioners requested the USDA to revise the definition of the style of “Whole” to reflect newer varieties, new sorting techniques, and canning processes. The “Beauregard” variety, a new variety widely used in canned sweetpotatoes is oddly shaped and must be cut and trimmed to give the appearance of a whole sweet potato. This variety may or may not be tapered on one end and because of mechanical trimming may not meet the definition of whole.

The current definition for the style of “Whole” states that, “Whole means the canned sweetpotatoes have the appearance of being essentially whole or almost whole in that the units retain the approximate shape of whole sweetpotatoes.”

The petitioners wanted to revise the definition for canned whole sweetpotatoes to allow for those that are cylindrical in shape, two inches plus or minus 0.5 inches in length, by 1.5 inches plus or minus 0.25 inches in diameter for 404 x 307 and 603 x 700 can sizes and 1.0 inch plus or minus 0.25 inches in diameter for smaller can sizes.

Prior to undertaking research and other work associated with revising the grade standards, AMS sought public comments on the petition. A notice requesting comments on the petition to revise the United States Standards for Grades of Canned Sweetpotatoes was published in March 12, 2003, Federal Register (68 FR 11802).

In response to our request for comments, AMS received one comment from one of the processors that had requested the revision. The commenter did not favor the proposed revision of the standard, noting that the use of length and diameter requirement to describe a whole sweetpotato would be a severe disadvantage to canners. The commenter further suggested that the term “Almost Whole” be removed from the standard.

AMS determined that the term “Whole” implies that the sweetpotatoes have not been cut into smaller pieces. An “Almost whole” sweetpotato unit should resemble a whole unit with one or both ends trimmed to remove fibrous ends. Larger sized sweetpotatoes would require excessive trimming to meet the suggested size requirements as stated in the petition. AMS decided that the best approach to revising the grade standards was to leave the style description for “Whole” unchanged without specific reference to length and size. AMS further decided to remove the style of “Sections,” which is not commercially packed, reducing the confusion between “Sections” and “Pieces, cuts, or cut” styles. The style “Other” was added to account for styles not specifically mentioned in the grade standard. These changes were suggested in order to more clearly delineate the difference between “whole” and “pieces, cuts, or cut” styles, thereby promoting uniformity in grading canned sweetpotatoes.

A discussion draft that included these changes was sent to FPA, in March 2004. In December 2004, the members of FPA agreed with the proposed changes to the grade standard. Therefore, AMS is proposing a change to the U.S. Standards for Grades of Canned Sweetpotatoes that will accommodate the needs of the industry and promote uniformity in grading. A copy of the proposed grade standards is posted on the AMS Web site located at http://www.ams.usda.gov/fv/ppb.html and is available at the address above.

This proposal will provide a common language for trade, a means of measuring value in the marketing of canned sweetpotatoes, and provide guidance in the effective utilization of canned sweetpotatoes. The official grade of a lot of canned sweetpotatoes covered by these standards will be determined by the procedures set forth in the Regulations Governing Inspection and Certification of Processed Fruits and Vegetables, Processed Products Thereof, and Certain Other Processed Food Products (7 CFR 52.1-52.83).

This notice provides for a 60 day comment period for interested parties to comment on changes to the standards.

Authority: 7 U.S.C. 1621-1627.

Dated: May 11, 2005.
Kenneth C. Clayton,
Acting Administrator, Agricultural Marketing Service.

[FR Doc. 05-9695 Filed 5-13-05; 8:45 am]

BILLING CODE 3410-02-P